FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than August 6, 2004.

A. Federal Reserve Bank of New York (Jay Bernstein, Bank Supervision Officer) 33 Liberty Street, New York, New York 10045-0001:

1. Banco Bilbao Vizcaya Argentaria, S.A., Bilbao, Spain, BBVA International Investment Corporation, Hato Rey, Puerto Rico, Grupo Financiero BBVA Bancomer, S.A. de C.V., Mexico City, Mexico, BBVA Bancomer, S.A., Mexico City, Mexico, and BBVA Bancomer Financial Holdings, Inc., Houston, Texas; to become bank holding companies by acquiring 100 percent of the voting shares of Valley Bank, Moreno Valley, California.

In connection with this application, Applicants also have applied to engage de novo in the following activities that have been previously approved by Board order: (i) domestic and international money transmission (Popular, Inc., 84 Fed. Res. Bull. 481 (1998)(Popular) and Norwest Corp., 81 Fed. Res. Bull. 974 (1995) and 81 Fed. Res. Bull. 1139 (1995)), (ii) check cashing (Popular and Midland Bank, PLC, 76 Fed. Res. Bull. 860, 863 (1990)), and (iii) bill payments, (Popular and BancOne Corp., 80 Fed. Res. Bull. 139 (1994)), and to engage in (iv) issuing and selling money orders, traveler's checks, and prepaid telephone cards, pursuant to section 225.28(b)(13), and (v) buying and selling foreign exchange, pursuant to sections 225.28(b)(7)(v) and 225.28(b)(8)(A) of Regulation Y.

B. Federal Reserve Bank of Atlanta (Sue Costello, Vice President) 1000 Peachtree Street, N.E., Atlanta, Georgia 30303:

1. Capital City Bank Group, Inc., Tallahassee, Florida; to acquire 100 percent of the voting shares of Farmers & Merchants Bank, Dublin, Georgia.

2. First National Bankers Bankshares, Inc., Baton Rouge, Louisiana; to acquire 100 percent of the voting shares of Alabama Bankers Bank, Birmingham, Alabama (in organization).

3. BancTenn Corp., Kingsport, Tennessee; to acquire up to 20 percent of the voting shares of Paragon Commercial Corporation, Raleigh, North Carolina, and thereby indirectly acquire voting shares of Paragon Commercial Bank, Raleigh, North Carolina.

C. Federal Reserve Bank of St. Louis (Randall C. Sumner, Vice President) 411 Locust Street, St. Louis, Missouri 63166-2034:

1. German American Bancorp, Jasper, Indiana; to acquire 9.9 percent of the voting shares of American Community Bancorp, Inc., Evansville, Indiana, and thereby indirectly acquire voting shares of Bank of Evansville, N.A., Evansville, Indiana.

D. Federal Reserve Bank of Dallas (W. Arthur Tribble, Vice President) 2200 North Pearl Street, Dallas, Texas 75201-2272:

1. JSA Family Limited Partnership, Jane Austin Chapman Limited Partnership, and Austin BanCorp, Inc., all of Jacksonville, Texas; to acquire 100 percent of the voting shares of First National Bank, Bullard, Texas.

Board of Governors of the Federal Reserve System, July 8, 2004.
Robert deV. Frierson,
Deputy Secretary of the Board.

[FR Doc. 04-15951 Filed 7-13-04; 8:45 am]

BILLING CODE 6210-01-S